DEPARTMENT OF THE INTERIOR

Bureau of Land Management

[ID-070-1020-XQ]

Upper Snake River District Resource Advisory Council Meeting

AGENCY: Bureau of Land Management, Interior.

ACTION: Resource Advisory Council meeting locations and times.

SUMMARY: In accordance with the Federal Land Policy and Management Act and the Federal Advisory Committee Act of 1972 (FACA), 5 U.S.C., the Department of the Interior, Bureau of Land Management (BLM) council meeting of the Upper Snake River District Resource Advisory Council (RAC) will be held as indicated below. The primary agenda item for this meeting will be a field trip to the Pleasant View Allotment that will give RAC members a better understanding of the application of Standards for Rangeland Health and Guidelines for Grazing Management. Other agenda items may be added between publication of this notice and the meeting, or the agenda may change if weather dictates. All meetings are open to the public. Individuals who plan to attend and need further information about the meetings, or need special assistance such as sign language interpretation or other reasonable accommodations should contact David Howell at the Upper Snake River District Office, 1405 Hollipark Dr., Idaho Falls, ID 83401, or telephone (208) 524-7559.

Dates and Times: The next meeting will be held Friday, October 27, 2000. The meeting will start at the BLM's Pocatello Field Office, 1111 8th Avenue in Pocatello, Idaho, beginning at 9 a.m. The field trip to the Pleasant View Allotment will begin shortly after the meeting convenes public comments, if any, are presented. The meeting is scheduled to end at about 4 p.m.

SUPPLEMENTARY INFORMATION: The purpose of the Resource Advisory Council is to advise the Secretary of the Interior, through the BLM, on a variety of planning and management issues associated with the management of the public lands.

FOR FURTHER INFORMATION CONTACT: David Howell, Upper Snake River District, 1405 Hollipark Dr., Idaho Falls, ID 83401, (208) 524-7559.

Dated: September 20, 2000.
James E. May,
Upper Snake River District Manager.

[FR Doc. 00-25029 Filed 9-28-00; 8:45 am]

BILLING CODE 4310-GG-P